DEPARTMENT OF ENERGY

Federal Energy Regulatory Commission

Combined Notice of Filings #1

Take notice that the Commission received the following electric corporate filings:

Docket Numbers: EC15-191-000.

Applicants: TerraForm Private LLC, Meadow Creek Project Company LLC, Goshen Phase II LLC, Wolverine Creek Goshen Interconnection LLC, Canadian Hills Wind, LLC, Rockland Wind Farm LLC, Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Application for Authorization Under Section 203 of the Federal Power Act, Requests for Expedited Action, Waivers of Filing Requirements and Confidential Treatment of Transaction Document of TerraForm Private LLC, et al.

Filed Date: 8/18/15.

Accession Number: 20150818-5200.

Comments Due: 5 p.m. ET 9/8/15.

Take notice that the Commission received the following electric rate filings:

Docket Numbers: ER15-2477-000.

Applicants: Golden Hills Wind, LLC.

Description: Baseline eTariff Filing: Golden Hills Wind, LLC Application for MBR Authority to be effective 10/1/2015.

Filed Date: 8/18/15.

Accession Number: 20150818-5171.

Comments Due: 5 p.m. ET 9/8/15.

Docket Numbers: ER15-2478-000.

Applicants: Midcontinent Independent System Operator, Inc.

Description: Section 205(d) Rate Filing: 2015-08-19_SA 2795 ATC-City of Hartford CFA to be effective 10/18/2015.

Filed Date: 8/19/15.

Accession Number: 20150819-5050.

Comments Due: 5 p.m. ET 9/9/15.

Docket Numbers: ER15-2479-000.

Applicants: Midcontinent Independent System Operator, Inc.

Description: Section 205(d) Rate Filing: 2015-08-19_SA 2800 ATC-City of Stoughton CFA to be effective 10/18/2015.

Filed Date: 8/19/15.

Accession Number: 20150819-5051.

Comments Due: 5 p.m. ET 9/9/15.

Docket Numbers: ER15-2480-000.

Applicants: Midcontinent Independent System Operator, Inc.

Description: Section 205(d) Rate Filing: 2015-08-19_SA 2802 ATC-City of Two Rivers CFA to be effective 10/18/2015.

Filed Date: 8/19/15.

Accession Number: 20150819-5052.

Comments Due: 5 p.m. ET 9/9/15.

Docket Numbers: ER15-2481-000.

Applicants: Midcontinent Independent System Operator, Inc.

Description: Section 205(d) Rate Filing: 2015-08-19_SA 2803 ATC-Badger Power Marketing Authority CFA to be effective 10/18/2015.

Filed Date: 8/19/15.

Accession Number: 20150819-5053.

Comments Due: 5 p.m. ET 9/9/15.

Docket Numbers: ER15-2482-000.

Applicants: Midcontinent Independent System Operator, Inc., Ameren Illinois Company.

Description: Compliance filing: 2015-08-19_Ameren Services Compliance Att O-AIC (AC11-46) to be effective 1/1/2015.

Filed Date: 8/19/15.

Accession Number: 20150819-5057.

Comments Due: 5 p.m. ET 9/9/15.

Docket Numbers: ER15-2483-000.

Applicants: LRI Renewable Energy LLC.

Description: Baseline eTariff Filing: Initial Baseline Filing—LRI Renewable Energy LLC to be effective 8/19/2015.

Filed Date: 8/19/15.

Accession Number: 20150819-5071.

Comments Due: 5 p.m. ET 9/9/15.

Take notice that the Commission received the following electric reliability filings:

Docket Numbers: RR15-15-000.

Applicants: North American Electric Reliability Corp.

Description: Petition of the North American Electric Reliability Corporation for Approval of Amendments to the Bylaws of Texas Reliability Entity, Inc. and Request for Expedited Action.

Filed Date: 8/18/15.

Accession Number: 20150818-5198.

Comments Due: 5 p.m. ET 9/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2015.
Nathaniel J. Davis, Sr.,
Deputy Secretary.

[FR Doc. 2015-21109 Filed 8-25-15; 8:45 am]

BILLING CODE 6717-01-P